INTERNATIONAL TRADE COMMISSION

[Investigation No. 337-TA-1160]

Certain Replacement Automotive Service and Collision Parts and Components Thereof; Commission Determination To Issue a Limited Exclusion Order and Cease and Desist Orders Against Defaulting Respondents; Termination of the Investigation

AGENCY: U.S. International Trade Commission.

ACTION: Notice.

SUMMARY: Notice is hereby given that the U.S. International Trade Commission (the “Commission”) has determined to issue a limited exclusion order and cease and desist orders against the following respondents found in default in this investigation: AJ Auto Spare Parts FZE of Dubai, United Arab Emirates; John Auto Spare Parts Co. LLC of Dubai, United Arab Emirates; and Cuong Anh Co. Ltd. of Ninh Binh Province, Vietnam (collectively, “the Defaulting Respondents”). The Commission has also determined to impose a bond equal to one hundred (100) percent of the entered value of the infringing products imported during the period of Presidential review. The investigation is hereby terminated.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On June 7, 2019, the Commission instituted the above-referenced investigation based on a complaint filed by Hyundai Motor America, Inc. of Fountain Valley, California and Hyundai Motor Company of Seoul, Republic of Korea (collectively, “Hyundai”). 84 FR 26703-04 (June 7, 2019). The complaint alleges a violation of 19 U.S.C. 1337, as amended (“Section 337”), in the importation, sale for importation, or sale in the United States after importation of certain gray market Hyundai parts in the categories of belts, body exterior and interior parts, brakes, wheel hubs, cooling system parts, drivetrain parts, electrical parts, emission parts, engine parts, exhaust parts, fuel/air pumps, oil/air/cabin air filters and parts, heat and A/C parts, ignition parts, steering parts, suspension parts, transmission parts, wheels and parts, wiper and washer parts, and accessories that infringe one or more of Hyundai's U.S. Trademark Registration Nos. 1,104,727; 3,991,863; 1,569,538; and 4,065,195. Id. at 26704. The complaint further alleges that a domestic industry exists in the United States. Id.

The Commission's notice of investigation named Direct Technologies International, Inc. (“DTI”) of North Miami Beach, Florida; AJ Auto Spare Parts FZE (“AJ Auto”) and John Auto Spare Parts Co. LLC (“John Auto”), both of Dubai, United Arab Emirates; and Cuong Anh Co. Ltd. (“Cuong Anh”) of Ninh Binh Province, Vietnam as respondents. The Office of Unfair Import Investigations was not named as a party to this investigation.

On November 25, 2019, the Commission determined not to review an initial determination (“ID”) granting Hyundai's unopposed motion to find respondents AJ Auto, John Auto, and Cuong Anh (collectively, the “Defaulting Respondents”) in default. Order No. 17 (Nov. 5, 2019), not reviewed, Comm'n Notice (Nov. 25, 2019). Thereafter, on January 24, 2020, Hyundai filed a declaration seeking immediate entry of a limited exclusion order against the Defaulting Respondents and any of their affiliated companies, parents, subsidiaries, and related business entities, successors or assigns.

On February 18, 2020, the Commission determined not to review an ID granting Hyundai's unopposed motion for summary determination that Hyundai satisfies the domestic industry requirement of section 337. Order No. 26 (Jan. 16, 2020), not reviewed, Comm'n Notice (Feb. 18, 2020).

On March 26, 2020, the Commission determined not to review an ID granting a joint motion by Hyundai and DTI to terminate the investigation as to DTI based on a consent order. Order No. 36 (Mar. 5, 2020), not reviewed, Comm'n Notice (Mar. 26, 2020). The Commission concurrently issued a consent order directed to DTI, found that Hyundai's January 24, 2020 declaration for immediate relief against the Defaulting Respondents was moot, and requested briefing on the issues of remedy, bonding, and the public interest with respect to the Defaulting Respondents. Comm'n Notice, 2-3 (Mar. 26, 2020).

On April 9, 2020, Hyundai filed the sole response to the Commission's request for briefing. No replies or other submissions were received.

Upon review of the record, and in the absence of any response from the Defaulting Respondents or from other interested persons or government agencies, and having concluded that it would not be contrary to the public interest to do so, the Commission has determined to issue a limited exclusion order and cease and desist orders against the Defaulting Respondents. The Commission has further determined to set a bond in the amount of one hundred (100) percent of the entered value of the covered products.

The investigation is hereby terminated.

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Hyundai complete service for any party/parties without a method of electronic service noted on the attached Certificate of Service and shall file proof of service on the Electronic Document Information System (EDIS).

The Commission vote for this determination took place on August 18, 2020.

The authority for the Commission's determination is contained in Section 337 of the Tariff Act of 1930, as amended (19 U.S.C. 1337), and in part 210 of the Commission's Rules of Practice and Procedure (19 CFR part 210).

By order of the Commission.
Issued: August 18, 2020.
Lisa Barton,
Secretary to the Commission.

[FR Doc. 2020-18446 Filed 8-21-20; 8:45 am]

BILLING CODE 7020-02-P